DEPARTMENT OF ENERGY

[OE Docket No. EA-377]

Application To Export Electric Energy; DC Energy Texas, LLC

AGENCY: Office of Electricity Delivery and Energy Reliability, DOE.

ACTION: Notice of application.

SUMMARY: DC Energy Texas, LLC (DCE Texas) has requested authority to transmit electric energy from the United States to Mexico pursuant to section 202(e) of the Federal Power Act (FPA).

DATES: Comments, protests, or requests to intervene must be submitted to DOE and received on or before May 16, 2011.

ADDRESSES: Comments, protests, or requests to intervene should be addressed to: Lamont Jackson, Office of Electricity Delivery and Energy Reliability, Mail Code: OE-20, U.S. Department of Energy, 1000 Independence Avenue, SW., Washington, DC 20585-0350. Because of delays in handling conventional mail, it is recommended that documents be transmitted by overnight mail, by electronic mail to Lamont.Jackson@hq.doe.gov, or by facsimile to 202-586-8008.

FOR FURTHER INFORMATION CONTACT: Lamont Jackson (Program Office) 202-586-0808.

SUPPLEMENTARY INFORMATION: Exports of electricity from the United States to a foreign country are regulated by the Department of Energy (DOE) pursuant to sections 301(b) and 402(f) of the Department of Energy Organization Act (42 U.S.C. 7151(b), 7172(f)) and require authorization under section 202(e) of the FPA (16 U.S.C. 824a(e)).

On March 18, 2011, DOE received an application from DCE Texas requesting authority to transmit electric energy from the United States to Mexico for five years as a power marketer. DCE Texas proposes to use existing authorized international electric transmission facilities that are appropriate for open access by third parties, including facilities that have been authorized but not yet constructed and placed into operation. Neither DCE Texas nor any of its affiliates owns, controls or operates any electric transmission facilities, nor do they hold a franchise service area for sale, distribution or transmission of electricity.

The electric energy that DCE Texas proposes to export to Mexico would be surplus energy purchased from electric utilities, Federal power marketing agencies, and other entities within the United States. The existing international transmission facilities to be utilized by DCE Texas have previously been authorized by Presidential permits issued pursuant to Executive Order 10485, as amended, and are appropriate for open access transmission by third parties.

Procedural Matters: Any person desiring to become a party to these proceedings or to be heard by filing comments or protests to this application should file a petition to intervene, comment, or protest at the address provided above in accordance with §§ 385.211 or 385.214 of the Federal Energy Regulatory Commission's Rules of Practice and Procedures (18 CFR 385.211, 385.214). Fifteen copies of each petition and protest should be filed with DOE and must be received on or before the date listed above.

Comments on the DCE Texas application to export electric energy to Mexico should be clearly marked with OE Docket No. EA-377. An additional copy is to be filed directly with Stephen C. Palmer, Alston & Bird, LLC, Atlantic Building, 950 F Street, NW., Washington, DC 20004-1404 and Joelle K. Ogg, General Counsel, DC Energy, LLC, 8065 Leesburg Pike, sixth floor, Vienna, VA 22182. A final decision will be made on this application after the environmental impacts have been evaluated pursuant to DOE's National Environmental Policy Act Implementing Procedures (10 CFR Part 1021) and after a determination is made by DOE that the proposed action will not have an adverse impact on the reliability of the U.S. electric power supply system.

Copies of this application will be made available, upon request, for public inspection and copying at the address provided above, by accessing the program Web site at http://www.oe.energy.gov/permits_pending.htm, or by emailing Odessa Hopkins at Odessa.Hopkins@hq.doe.gov.

Issued in Washington, DC, on April 8, 2011.
Anthony J. Como,
Director, Permitting and Siting, Office of Electricity Delivery and Energy Reliability.

[FR Doc. 2011-9078 Filed 4-13-11; 8:45 am]

BILLING CODE 6450-01-P